DEPARTMENT OF HOMELAND SECURITY

Federal Emergency Management Agency

[Docket ID FEMA-2021-0002; Internal Agency Docket No. FEMA-B-2180]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before March 21, 2022.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2180, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
New London County, Connecticut (All Jurisdictions)
Project: 17-01-1012S Preliminary Date: July 17, 2020
Borough of Jewett City | Town's Clerk's Office, 28 Main Street, Jewett City, CT 06351.
Town of Griswold | Town Clerk's Office, 28 Main Street, Griswold, CT 06351.
Town of Lisbon | Town Hall, 1 Newent Road, Lisbon, CT 06351.
Town of North Stonington | Town Clerk's Office, 40 Main Street, North Stonington, CT 06359.
Town of Preston | Town Hall, 389 Route 2, Preston, CT 06365.
Town of Voluntown | Town Hall, Town Clerk's Office, 115 Main Street, Voluntown, CT 06384.
Windham County, Connecticut (All Jurisdictions)
Project: 17-01-1012S Preliminary Date: July 17, 2020
Borough of Danielson | Killingly Town Hall, 1st Floor, 172 Main Street, Killingly, CT 06239.
Town of Brooklyn | Town Hall, 4 Wolf Den Road, Brooklyn, CT 06234.
Town of Killingly | Town Hall, 1st Floor, 172 Main Street, Killingly, CT 06239.
Town of Plainfield | Town Hall, 8 Community Avenue, Plainfield, CT 06374.
Town of Pomfret | Town of Pomfret Emergency Management Department, 5 Haven Road, Pomfret Center, CT 06259.
Town of Putnam | Town Hall, 200 Church Street, Putnam, CT 06260.
Town of Sterling | Town of Sterling Land Use Department, 1183 Plainfield Pike, Oneco, CT 06373.
Town of Thompson | Thompson Town Clerk's Office, 815 Riverside Drive, North Grosvenordale, CT 06255.
Hampden County, Massachusetts (All Jurisdictions)
Project: 17-01-1012S Preliminary Date: July 17, 2020
Town of Brimfield | Building Department, 23 Main Street, Brimfield, MA 01010.
Town of Holland | Town Hall, 27 Sturbridge Road, Holland, MA 01521.
Town of Wales | Town Hall, 3 Hollow Road, Wales, MA 01081.
Worcester County, Massachusetts (All Jurisdictions)
Project: 17-01-1012S Preliminary Date: July 17, 2020
Town of Auburn | Conservation Commission, 104 Central Street, Second Floor, Auburn, MA 01501.
Town of Charlton | Office of Town Administrator, 37 Main Street, Charlton, MA 01507.
Town of Douglas | Town Clerk's Office, 29 Depot Street, Douglas, MA 01516.
Town of Dudley | Board of Selectmen's Office, 71 West Main Street, Dudley, MA 01571.
Town of Leicester | Town Clerk's Office, 3 Washburn Square, Leicester, MA 01524.
Town of Oxford | Town Hall, 325 Main Street, Oxford, MA 01540.
Town of Southbridge | Town Clerk's Office, 41 Elm Street, Southbridge, MA 01550.
Town of Spencer | Conservation Office, 157 Main Street, Spencer, MA 01562.
Town of Sturbridge | Planning Department, 301 Main Street, Sturbridge, MA 01566.
Town of Sutton | Town Hall, 4 Uxbridge Road, Sutton, MA 01590.
Town of Webster | Conservation Office, 350 Main Street, Webster, MA 01570.
Kent County, Rhode Island (All Jurisdictions)
Project: 17-01-1012S Preliminary Date: July 17, 2020
Town of Coventry | Town Clerk's Office, 1670 Flat River Road, Coventry, RI 02816.
Town of West Greenwich | Town Hall, 280 Victory Highway, West Greenwich, RI 02817.
Providence County, Rhode Island (All Jurisdictions)
Project: 17-01-1012S Preliminary Date: July 17, 2020
Town of Burrillville | Town of Burrillville Building Department, 144 Harrisville Main Street, Harrisville, RI 02830.
Town of Foster | Town Hall, 181 Howard Hill Road, Foster, RI 02825.
Town of Glocester | Glocester Town Hall, Town Clerk's Office, 1145 Putnam Pike, Chepachet, RI 02814.
Washington County, Rhode Island (All Jurisdictions)
Project: 17-01-1012S Preliminary Date: July 17, 2020
Town of Exeter | Town Hall, Town Clerk's Office, 675 Ten Rod Road, Exeter, RI 02822.

[FR Doc. 2021-27612 Filed 12-20-21; 8:45 am]

BILLING CODE 9110-12-P